DEPARTMENT OF THE INTERIOR

Bureau of Land Management

[17XL 1109AF LLUTW01100 L12200000.AL0000]

Notice of Closure: Target Shooting Public Safety Closure on the Lake Mountains in Utah County, UT

AGENCY: Bureau of Land Management, Interior.

ACTION: Notice.

SUMMARY: The Bureau of Land Management (BLM), pursuant to its regulations, is issuing a closure order which maintains an existing closure of approximately 900 acres of public land on the Lake Mountains in Utah County, Utah. This closure is necessary to protect persons, property, the public lands and resources from the discharge or use of firearms or dangerous weapons for the purposes of recreational target shooting. This closure does not restrict other public activities or access to this portion of the Lake Mountains that is hereby closed to recreational target shooting.

DATES: This notice announces a target shooting closure order within the described area for no longer than two years from December 15, 2016. This closure will maintain an existing closure of the same area.

FOR FURTHER INFORMATION CONTACT: Matt Preston, Field Manager; Phone: (801) 977-4300; Mail: Salt Lake Field Office, 2370 South Decker Lake Boulevard, West Valley City, Utah 84119; Email: blm_ut_sl_comments@blm.gov.

Persons who use a telecommunications device for the deaf (TDD) may call the Federal Relay Service at 1-800-877-8339 to contact the above individual during normal business hours. The Service is available 24 hours a day, 7 days a week, to leave a message or question with the above individual. Replies are provided during normal business hours.

SUPPLEMENTARY INFORMATION: This closure affects public lands on the Lake Mountains in Utah County, Utah. The legal description of the affected public lands is:

Salt Lake Meridian

T. 7 S., R. 1 E.,

Sec. 6, lot 1, NE1/4SE1/4;

Sec. 7, lot 1.

T. 7 S., R. 1 W.,

Sec. 13, lots 2, 11, 12, and portions of lots 3, 4, 9, and 10, and SE1/4SW1/4 lying easterly of the 345 KV power line *;

sec. 24, lots 1 thru 3, 10, 13, 17, 18, and those portions of lots 11 and 12, and NW1/4 lying easterly of the 345 KV power line (BLM right-of-way UTU 0115794);

sec. 26, NW1/4NE1/4, NW1/4SW1/4, and that portion of N1/2NW1/4 lying easterly of the 345 KV power line *;

* BLM right-of-way UTU 0115794.

The area described contains approximately 900 acres.

The Salt Lake Field Office hereby closes a portion of the Lake Mountains, Utah County, Utah, to all target shooting to protect public safety, property and resources. The area will be closed under the authority of 43 CFR 8364.1—Closures and Restrictions and in conformance with BLM Washington Office Instruction Memorandum 2016-128, Requirements for Processing and Approving Temporary Public Land Closure and Restriction Orders. Due to unsafe conditions and danger to the public, it is imperative for the BLM to maintain the closure on the area.

The BLM will post target shooting closure signs at main entry points to this area. A notice and map of the target shooting closure will be posted in the Salt Lake Field Office. Maps of the affected area and other documents associated with this closure are available at: Salt Lake Field Office, 2370 S. Decker Lake Blvd., West Valley City, UT 84119 and the Salt Lake Field Office, Target Shooting Program Web site located online at: https://eplanning.blm.gov/ epl-front-office/eplanning/projectSummary. do?methodName=render DefaultProject Summary& projectId=66041.

The Lake Mountains are a small mountain range located on the west side of Utah Lake. The city of Saratoga Springs borders the north side of the mountains and Eagle Mountain City is along the west side. State Highway 68 runs along the eastern bench of the Lake Mountains; it is a main arterial road and is used by residential, agricultural, and recreational traffic. Across Highway 68, there are residences along the lake shore. Utah Lake is a popular area for recreationists, boaters, and anglers. The Lake Mountains are comprised of a mixed ownership pattern of lands managed by the BLM, Utah School and Institutional Trust Lands Administration (SITLA), and several private property owners. The area encompassed by the closure is primarily used by residents of Utah County and southern Salt Lake County for target shooting.

The target shooting closure is necessary to protect persons, property, and the public lands and resources in the area. An existing target shooting closure of the area will expire on December 15, 2016 (see 79 FR 74111, December 15, 2014). The Eastern Lake Mountains Target Shooting Plan Amendment (plan amendment) is currently underway and is expected to be completed by March 2017. This plan amendment process is analyzing management of target shooting in the Lake Mountains. Following the final agency decision on the plan amendment, the promulgation of supplementary rules may be necessary to implement the plan amendment.

Prior to the 2012 closure, the Lake Mountains received about 4,000 target shooters each month; on weekends, as many as 400 shooters concentrated into 5 areas, and other dispersed locations. The slopes of the Lake Mountains provide a natural backstop that is ideal for target shooting; however, some shooters chose to target practice in the relatively flat terrain on the lower slopes. Given the topography of the area and the number of people who visit it, the area subject to this Order is not conducive to safe target shooting. Target shooting in the area has resulted in nearby private residences being shot and near-misses of automobiles and people. An additional danger is the annual threat from target shooting-related wildfires adjacent to private residences, a major power line, communication towers on the ridge top, and public land resources.

The previous two-year closure proved effective in redirecting target shooting to safer locations, allowing cleanup of the area, eliminating illegal dumping and significantly reducing target shooting-related wildfires. Since the implementation of the closure in August 2012, no near-misses from errant gunfire have been reported to law enforcement.

Since the implementation of the 2012 target shooting closure, several additional actions have been taken by private landowners, other agency partners and the BLM to augment the closure. Regular patrols have been conducted by the Utah County Sheriff's Office, BLM law enforcement rangers and private property owners. Barricades have been installed to identify the closure boundary, especially along private property and in areas receiving recurring violations, such as the Little Cove area. In 2014, Utah County installed a six-mile fence along the west side of Highway 68 with gates to allow public access on a few controlled routes. Utah County also has started planning for development of a nearby managed target shooting range. In April 2014, SITLA closed approximately 1,500 acres of state lands adjacent to and near the BLM closure to recreational access. Additionally, the BLM is nearing completion of an amendment to its land use plan to develop a long-term solution for the target shooting issues in this area. With the closure and these subsequent actions, volunteers have been able to clean up the large amounts of trash and household appliances in these areas.

This closure is made under the authority of the regulations in 43 CFR 8364.1 which states: “To protect persons, property, and public lands and resources, the authorized officer may issue an order to close or restrict use of designated public lands.” The closure only applies to the discharge or use of firearms or dangerous weapons for the purposes of recreational target shooting and does not affect legal hunting.

Any person who violates the above restriction may be tried before a United States Magistrate and fined in accordance with 18 U.S.C. 3571, imprisoned for no more than 12 months under 43 U.S.C. 1733(a) and 43 CFR 8360.0-7, or both. Such violations also may be subject to the enhanced fines provided for in 18 U.S.C. 3571.

Authority: 43 CFR 8364.1.

Edwin Roberson,
State Director.

[FR Doc. 2016-30268 Filed 12-14-16; 8:45 am]

BILLING CODE 4310-DQ-P